DEPARTMENT OF TRANSPORTATION

Federal Railroad Administration

[Docket Number FRA-2016-0086]

Petition for Waiver of Compliance

Under part 211 of title 49 Code of Federal Regulations (CFR), this document provides the public notice that by letter dated December 13, 2022, Union Pacific Railroad Company (UPRR) and Canadian National Railway Co. (CN) petitioned the Federal Railroad Administration (FRA) to join an existing waiver of compliance in Docket Number FRA-2016-0086.¹ The existing relief in this docket provides CSX Transportation (CSX), BNSF Railway (BNSF), and Kansas City Southern Railway (now known as CPKC) conditional relief from certain provisions of the Federal railroad safety regulations contained at 49 CFR parts 232 (Brake System Safety Standards for Freight and Other Non-Passenger Trains and Equipment; End-Of-Train Devices), and 229 (Railroad Locomotive Safety Standards). Specifically, the existing relief allows the railroads to test extending the air flow method (AFM) test intervals from 92 days to 184 days on locomotives equipped with the New York Air Brake (NYAB) CCB-II and Fastbrake air brake systems.

¹ UPRR's petition is available at https://www.regulations.gov/document/FRA-2016-0086-0024, and CN's petition is available at https://www.regulations.gov/document/FRA-2016-0086-0022. Notice of CN's petition was previously published on November 16, 2022. See https://www.regulations.gov/document/FRA-2016-0086-0021.

UPRR and CN seek to form test waiver teams operating under the current test committee overseeing the relief in this docket to test UPRR's 2,113 NYAB CCBII-equipped and 660 Fastbrake-equipped locomotives and CN's 772 NYAB CCB-2 equipped locomotives.

This document also provides the public notice that BNSF, who is already a party to the relief in this docket, petitioned FRA to extend the existing relief and make the relief permanent.² Subsequently, however, BNSF recognized existing implementation issues that could impact the validity of data being gathered under the terms of the existing relief in this docket and asked FRA to suspend its field investigation of BNSF's extension request until the railroad reviewed and addressed the issues through the Test Committee established per the terms of the existing relief in this docket.³ Given BNSF's request, on October 6, 2022, FRA dismissed BNSF's petition to allow the railroad time to correct the identified issues.⁴ In a letter dated June 14, 2023, BNSF notified FRA that it had addressed the issues identified and BNSF reiterated its requests to extend and make permanent the existing relief in this docket.⁵

² https://www.regulations.gov/document/FRA-2016-0086-0016.

³ https://www.regulations.gov/document/FRA-2016-0086-0019.

⁴ https://www.regulations.gov/document/FRA-2016-0086-0020.

⁵ https://www.regulations.gov/document/FRA-2016-0086-0025.

A copy of the petitions from UPRR, CN, and BNSF, as well as any written communications concerning the petitions, are available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by February 20, 2024 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-28110 Filed 12-20-23; 8:45 am]

BILLING CODE 4910-06-P